SECURITIES AND EXCHANGE COMMISSION

[Release No. IC-26488]

Notice of Applications for Deregistration Under Section 8(f) of the Investment Company Act of 1940

June 25, 2004.

The following is a notice of applications for deregistration under section 8(f) of the Investment Company Act of 1940 for the month of June, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on July 20, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

T.O. Richardson Trust [File No. 811-8849]

Summary: Applicant seeks an order declaring that it has ceased to be an investment company. On October 30, 2003, applicant made a liquidating distribution to its shareholders, based on net asset value. Expenses of $710 incurred in connection with the liquidation were paid by T.O. Richardson Company, Inc., applicant's investment adviser.

Filing Date: The application was filed on May 28, 2004.

Applicant's Address: 615 East Michigan St., Milwaukee, WI 53202.

TCW/DW Term Trust 2002 [File No. 811-7146]; TCW/DW Term Trust 2003 [File No. 811-7448]

Summary: Each applicant, a closed-end investment company, seeks an order declaring that it has ceased to be an investment company. On December 20, 2002 and December 12, 2003, respectively, each applicant made a liquidating distribution to its shareholders, based on net asset value. Applicants incurred no expenses in connection with the liquidations.

Filing Date: The applications were filed on May 25, 2004.

Applicants' Address: Morgan Stanley Investment Advisors Inc., 1221 Avenue of the Americas, New York, NY 10020.

Morgan Stanley New Discoveries Fund [File No. 811-9951]

Summary: Applicant seeks an order declaring that it has ceased to be an investment company. On December 19, 2003, applicant transferred its assets to Morgan Stanley Developing Growth Securities Trust, based on net asset value. Applicant incurred expenses of approximately $416,650 in connection with the reorganization.

Filing Date: The application was filed on May 25, 2004.

Applicant's Address: Morgan Stanley Investment Advisors Inc., 1221 Avenue of the Americas, New York, NY 10020.

Morgan Stanley Technology Fund [File No. 811-9983]

Summary: Applicant seeks an order declaring that it has ceased to be an investment company. On October 3, 2003, applicant transferred its assets to Morgan Stanley Information Fund, based on net asset value. Applicant incurred expenses of approximately $893,533 in connection with the reorganization.

Filing Date: The application was filed on May 25, 2004.

Applicant's Address: Morgan Stanley Investment Advisors Inc., 1221 Avenue of the Americas, New York, NY 10020.

Morgan Stanley Select Municipal Reinvestment Fund [File No. 811-3878]

Summary: Applicant seeks an order declaring that it has ceased to be an investment company. On December 13, 2002, applicant transferred its assets to Morgan Stanley Tax-Exempt Securities Trust, based on net asset value. Applicant incurred expenses of approximately $127,019 in connection with the reorganization.

Filing Date: The application was filed on May 25, 2004.

Applicant's Address: Morgan Stanley Investment Advisors Inc., 1221 Avenue of the Americas, New York, NY 10020.

Morgan Stanley S&P 500 Select Fund [File No. 811-8809]

Summary: Applicant seeks an order declaring that it has ceased to be an investment company. On July 12, 2002, applicant transferred its assets to Morgan Stanley S&P 500 Index Fund, based on net asset value. Applicant incurred expenses of approximately $95,835 in connection with the reorganization.

Filing Date: The application was filed on May 25, 2004.

Applicant's Address: Morgan Stanley Investment Advisors Inc., 1221 Avenue of the Americas, New York, NY 10020.

Morgan Stanley Capital Growth Securities [File No. 811-5975]; Morgan Stanley 21st Century Trend Fund [File No. 811-9615]

Summary: Applicants seek an order declaring that it has ceased to be an investment company. On July 12, 2002 and October 3, 2003, respectively, each applicant transferred its assets to Morgan Stanley American Opportunities Fund, based on net asset value. Applicants incurred expenses of approximately $244,266 and $399,578, respectively, in connection with the reorganizations.

Filing Date: The applications were filed on May 25, 2004.

Applicants' Address: Morgan Stanley Investment Advisors Inc., 1221 Avenue of the Americas, New York, NY 10020.

Morgan Stanley Equity Fund [File No. 811-8739]

Summary: Applicant seeks an order declaring that it has ceased to be an investment company. On December 19, 2003, applicant transferred its assets to Morgan Stanley Dividend Growth Securities Inc., based on net asset value. Applicant incurred expenses of approximately $212,915 in connection with the reorganization.

Filing Date: The application was filed on May 25, 2004.

Applicant's Address: Morgan Stanley Investment Advisors Inc., 1221 Avenue of the Americas, New York, NY 10020.

Morgan Stanley Tax-Managed Growth Fund [File No. 811-9769]

Summary: Applicant seeks an order declaring that it has ceased to be an investment company. On October 3, 2003, applicant transferred its assets to Morgan Stanley Growth Fund, based on net asset value. Applicant incurred expenses of approximately $128,743 in connection with the reorganization.

Filing Date: The application was filed on May 25, 2004.

Applicant's Address: Morgan Stanley Investment Advisors Inc., 1221 Avenue of the Americas, New York, NY 10020.

Morgan Stanley North American Government Income Trust [File No. 811-6572]

Summary: Applicant seeks an order declaring that it has ceased to be an investment company. On November 1, 2002, applicant transferred its assets to Morgan Stanley Limited Duration Fund, based on net asset value. Applicant incurred expenses of approximately $115,794 in connection with the reorganization.

Filing Date: The application was filed on May 25, 2004.

Applicant's Address: Morgan Stanley Investment Advisors Inc., 1221 Avenue of the Americas, New York, NY 10020.

Nuveen New York Municipal Income Fund, Inc. [File No. 811-5493]

Summary: Applicant, a closed-end investment company, seeks an order declaring that it has ceased to be an investment company. On January 8, 1996, applicant transferred its assets to Nuveen New York Municipal Value Fund, Inc., based on net asset value. Applicant incurred expenses of $75,444 in connection with the reorganization.

Filing Date: The application was filed on May 14, 2004.

Applicant's Address: 333 West Wacker Dr., Chicago, IL 60606.

Dunhill Investment Trust [File No. 811-8719]

Summary: Applicant seeks an order declaring that it has ceased to be an investment company. On July 1, 2002, applicant made a liquidating distribution to its shareholders, based on net asset value. Applicant incurred no expenses in connection with the liquidation.

Filing Date: The application was filed on May 24, 2004.

Applicant's Address: 700 Pete Rose Way, Cincinnati, OH 45203.

UBS Financial Sector Fund Inc. [File No. 811-4587] UBS Mutual Funds Securities Trust [File No. 811-9745]

Summary: Each applicant seeks an order declaring that it has ceased to be an investment company. On November 5, 2003, UBS Financial Sector Fund Inc. transferred its assets to a corresponding series of The UBS Funds, based on net asset value, and UBS Mutual Funds Securities Trust transferred the assets of its two series to corresponding series of The UBS Funds and UBS Index Trust, based on net asset value. Expenses of $85,000 and $170,000, respectively, incurred in connection with the reorganizations were paid by UBS Global Asset Management (US) Inc., investment adviser to each applicant.

Filing Date: The applications were filed on May 20, 2004.

Applicants' Address: 51 West 52nd St., New York, NY 10019-6114.

Oppenheimer Trinity Growth Fund [File No. 811-9363]

Summary: Applicant seeks an order declaring that it has ceased to be an investment company. On October 12, 2001, applicant transferred its assets to Oppenheimer Trinity Large Cap Growth Fund, formerly known as Oppenheimer Large Cap Growth Fund, based on net asset value. Expenses of $118,041 incurred in connection with the reorganization were paid by applicant.

Filing Dates: The application was filed on May 5, 2004, and amended on June 10, 2004.

Applicant's Address: OppenheimerFunds, Inc., Two World Financial Center, 225 Liberty St., 11th Floor, New York, NY 10281-1008.

Lindner Investments [File No. 811-7932]

Summary: Applicant seeks an order declaring that it has ceased to be an investment company. By March 5, 2004, each of applicant's five series had made a liquidating distribution to its shareholders, based on net asset value. Expenses of $531,932 incurred in connection with the liquidation were paid by applicant's investment adviser and Hennessy Advisors, Inc., the successor adviser.

Filing Dates: The application was filed on April 21, 2004, and amended on June 7, 2004.

Applicant's Address: 520 Lake Cook Rd., Suite 381, Deerfield, IL 60015.

For the Commission, by the Division of Investment Management, pursuant to delegated authority.
Margaret H. McFarland,
Deputy Secretary.

[FR Doc. 04-14897 Filed 6-30-04; 8:45 am]

BILLING CODE 8010-01-P